DEPARTMENT OF TRANSPORTATION

Federal Aviation Administration

23rd Meeting: RTCA Special Committee 206: EUROCAE WG 76 Plenary: AIS and MET Data Link Services

AGENCY: Federal Aviation Administration (FAA), DOT.

ACTION: Notice of RTCA Special Committee 206: EUROCAE WG 76 Plenary: AIS and MET Data Link Services meeting.

SUMMARY: The FAA is issuing this notice to advise the public of a meeting of RTCA Special Committee 206: EUROCAE WG 76 Plenary: AIS and MET Data Link Services.

DATES: The meeting will be held December 14-16, 2010 from 9 a.m. to 5 p.m.

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 206: EUROCAE WG 76 Plenary: AIS and MET Data Link Services meeting. The agenda will include:

• Special Committee (SC) 206, Aeronautical Information and Meteorological Data Link Services, is finishing it's work on the Safety and Performance Requirements for Aeronautical Information Services (AIS) and Meteorological (MET) Data Link Services and a revised Terms of Reference (TOR) for SC-206 has been approved by the RTCA Program Management Committee. A brief description of the document deliverables called out in the revised SC-206 TOR is provided below to inform industry decisions relating to SC-206 participation.

• These deliverables not only provide data link independent Aeronautical Information Services (AIS) and Meteorological (MET) data link standards and guidelines, but also guidance to RTCA Special Committees that may be developing data link specific standards for AIS and MET data link services. In addition to a Minimum Aviation System Performance Standards (MASPS) for Flight Information Services-Broadcast (FIS-B) Data Link, RTCA DO-267A, revision and an AIS and MET Data Link MASPS, that defines the system-level requirements to provide for data driven intended functional use of AIS/MET data link information as the normal (or primary) means for cockpit receipt, a Concept of Use for AIS and MET Data Link Services and an AIS and MET Services Delivery Architecture Recommendations are included in the TOR deliverables.

• The Concept of Use for AIS and MET Data Link Services document includes, in a data-link independent manner, AIS and MET services to the aircraft and MET data link services from the aircraft to ground, to provide a common operating picture for evolving global ATM concepts. The AIS and MET Services Delivery Architecture Recommendations deliverable is a holistic, data-link-agnostic technical analysis of delivery methods to and from the aircraft with respect to the operational and safety requirements for AIS and MET services and provides recommended alternatives for AIS and MET data delivery architectures. The Concept of Use and Delivery Architectures document will inform the AIS and MET Data Link MASPS on its scope and content and help determine whether a revision to the Minimum Interoperability Standards (MIS) for Automated Meteorological Transmission (AUTOMET), RTCA DO-252, may be required. See attached Agenda for Meeting # 23 schedule.

14 December—Tuesday

• 9 a.m.—Opening Plenary

• Chairmen's remarks and Host's comments

• Introductions, approval of previous meeting minutes, review and approve meeting agenda

• Schedule for this week

• Action Item Review

• SC Revised TOR Background and Plan—Chairmen

• Working Group 1, Wake Vortex, Air Traffic Management, and Weather Applications, WG1 Chairmen

• Working Group 2, AIS Uplink and MET Uplink, Downlink, and Crosslink, Concept of Use—WG2 Chairmen

• Working Group 3, AIS and MET Services Delivery Architecture Recommendations—WG3 Chairmen

• 1 p.m. WG1, WG2, and WG3 Meetings

15 December—Wednesday

• 9 a.m. WG1, WG2, and WG3 Meetings

16 December—Thursday

• 9 a.m. WG1, WG2, and WG3 Meetings

• 2 p.m. Plenary Session

• SAE G-10—Gary Livack

• Working Group Reports

• Action Item Review

• Other Business

• Meeting Plans and Dates

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 15, 2010.
Robert L. Bostiga,
RTCA Advisory Committee.

[FR Doc. 2010-29297 Filed 11-19-10; 8:45 am]

BILLING CODE 4910-13-P